SMALL BUSINESS ADMINISTRATION

[Disaster Declaration #14257 and #14258]

West Virginia Disaster #WV-00035

AGENCY: U.S. Small Business Administration.

ACTION: Amendment 2.

SUMMARY: This is an amendment of the Presidential declaration of a major disaster for Public Assistance Only for the State of West Virginia (FEMA-4210-DR), dated 03/31/2015.

Incident: Severe Winter Storm, Flooding, Landslides, and Mudslides.

Incident Period: 03/03/2015 through 03/14/2015.

DATES: Effective Date: 05/08/2015.

Physical Loan Application Deadline Date: 06/01/2015.

Economic Injury (EIDL) Loan Application Deadline Date: 12/31/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the President's major disaster declaration for Private Non-Profit organizations in the State of WEST VIRGINIA, dated 03/31/2015, is hereby amended to establish the incident period for this disaster as beginning 03/03/2015 and continuing through 03/14/2015.

All other information in the original declaration remains unchanged.

(Catalog of Federal Domestic Assistance Numbers 59002 and 59008)

James E. Rivera,
Associate Administrator, for Disaster Assistance.

[FR Doc. 2015-11883 Filed 5-15-15; 8:45 am]

BILLING CODE 8025-01-P